DEPARTMENT OF COMMERCE

International Trade Administration

[Application No. 11-00001]

Export Trade Certificate of Review

ACTION: Notice of issuance of an Export Trade Certificate of Review to the Latin American Multichannel Advertising Council (“LAMAC”) (#11-00001).

SUMMARY: On August 18, 2011, the U.S. Department of Commerce issued an Export Trade Certificate of Review to the Latin American Multichannel Advertising Council (“LAMAC”). This notice summarizes the conduct for which certification has been granted.

FOR FURTHER INFORMATION CONTACT: Joseph E. Flynn, Director, Office of Competition and Economic Analysis, International Trade Administration, by telephone at (202) 482-5131 (this is not a toll-free number) or e-mail at etca@trade.gov.

SUPPLEMENTARY INFORMATION: Title III of the Export Trading Company Act of 1982 (15 U.S.C. Sections 4001-21) authorizes the Secretary of Commerce to issue Export Trade Certificates of Review. The regulations implementing Title III are found at 15 CFR part 325 (2010). The U.S. Department of Commerce, International Trade Administration, Office of Competition and Economic Analysis (“OCEA”) is issuing this notice pursuant to 15 CFR 325.6(b), which requires the Secretary of Commerce to publish a summary of the issuance in the Federal Register. Under Section 305(a) of the Export Trading Company Act (15 U.S.C. 4012(b)(1)) and 15 CFR 325.11(a), any person aggrieved by the Secretary's determination may, within 30 days of the date of this notice, bring an action in any appropriate district court of the United States to set aside the determination on the ground that the determination is erroneous.

Description of Certified Conduct

LAMAC is certified to engage in the Export Trade Activities and Methods of Operation described below in the following Export Trade and Export Markets.

1. Collect and disseminate among LAMAC Members information, including research and analysis, relating to the Export Markets; in particular, LAMAC may share among its Members the following types of information of aggregation and with or without attribution:

• Market research conducted by individual members, including but not limited to research on trends, consumer groups, audience groups, purchase profiles of audience and consumer groups, audience shares, broadcast media, and similar information; and

• Discussions with foreign regulatory agencies.

2. LAMAC may share among its Members the following types of information only when aggregated so that no Member-specific transaction or information may be inferred: Member data relating to advertising revenues; advertisers; payments to broadcast providers or subscription fee/revenues; and Member advertising rates per time block as defined below:

a. Morning: 6 a.m.-12 noon

b. Afternoon: 12 noon-4 p.m.

c. Late fringe: 4-6 p.m.

d. Prime Time: 6 p.m.-12 midnight

e. Overnight: 12 midnight-6 a.m.

3. Negotiate and enter into agreements with audience data providers, advertising agencies, and advertisers, for services relating to the Export Markets, with a view of expanding its Members' Export Trade in the Export Markets;

4. Develop and recommend to its Members common business models to reduce foreign trade barriers and expand markets;

5. Provide accounting, tax, legal, and consulting assistance and services to its Members; and

6. Engage in joint promotional activities aimed at developing Export Trade in the Export Markets on behalf of Members.

Terms and Conditions

In engaging in Export Trade Activities and Methods of Operation,

1. LAMAC will not intentionally disclose, directly or indirectly, to any Member any information about any other Member's costs, production, capacity, inventories, domestic prices, domestic sales, or U.S. business plans, strategies, or methods that is not already generally available to the trade or public.

2. With respect to information that LAMAC distributes to its Members pursuant to Export Trade Activity and method of Operation 2 above:

a. LAMAC will utilize an independent third party to collect the information from its Members; and

b. LAMAC will distribute the aggregated information to its Members only when the aggregation consist of the information from at least four Members.

3. LAMAC will comply with requests made by the Secretary of Commerce on behalf of the Attorney General for information or documents relevant to conduct under the Certificate. The Secretary of Commerce will request such information or documents when either the Attorney General of the Secretary of Commerce believes that the information or documents are required to determine that the Export Trade, Export Trade Activities and Methods of Operation of a person protected by this Certificate of Review continue to comply with the standards of section 303(a) of the Act.

The members of the Certificate are:

1. Discovery Latin America, LLC.

2. Fox Latin American Channel, Inc.

3. NGC Networks Latin America, LLC.

4. Turner Broadcasting System Latin America, Inc.

5. A&E Mundo, LLC.

6. History Channel Latin America, LLC.

7. E! Entertainment Television Latin America Partners. L.P.

Dated: August 30, 2011.
Joseph E. Flynn,
Director, Office of Competition and Economic Analysis.

[FR Doc. 2011-22713 Filed 9-2-11; 8:45 am]

BILLING CODE 3510-DR-P